DEPARTMENT OF THE TREASURY

Submission for OMB Review; Comment Request

November 4, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue NW., Suite 11010, Washington, DC 20220.

DATES: Written comments should be received on or before December 12, 2011 to be assured consideration.

Internal Revenue Service (IRS)

OMB Number: 1545-0108.

Type of Review: Extension without change of a currently approved collection.

Title: Annual Summary and Transmittal of U.S. Information Returns.

Forms: 1096.

Abstract: Form 1096 is used to transmit information returns (Forms 1099, 1098, 5498, and W-2G) to the IRS Service Centers. Under IRC section 6041 and related sections, a separate Form 1096 is used for each type of return sent to the service center by the payer. It is used by IRS to summarize and categorize the transmitted forms.

Respondents: Private Sector: Businesses or other for-profits.

Estimated Total Burden Hours: 1,016,812.

OMB Number: 1545-0120.

Type of Review: Revision of a currently approved collection.

Title: Certain Government Payments.

Forms: 1099-G.

Abstract: Form 1099-G is used by governments (primarily state and local) to report to the IRS (and notify recipients of) certain payments (e.g., unemployment compensation and income tax refunds). IRS uses the information to insure that the income is being properly reported by the recipients on their returns.

Respondents: State and local governments.

Estimated Total Burden Hours: 17,080,000.

OMB Number: 1545-0177.

Type of Review: Extension without change of a currently approved collection.

Title: Casualties and Thefts.

Form: 4684.

Abstract: Form 4684 is used by taxpayers to compute their gain or loss from casualties or thefts, and to summarize such gains and losses. The data is used to verify that the correct gain or loss has been computed.

Respondents: Individuals and Households.

Estimated Total Burden Hours: 1,486,659.

OMB Number: 1545-0235.

Type of Review: Revision of a currently approved collection.

Title: Monthly Tax Return for Wagers.

Forms: 730.

Abstract: Form 730 is used to identify taxable wagers and collect the tax monthly. The information is used to determine if persons accepting wagers are correctly reporting the amount of wagers and paying the required tax.

Respondents: Private Sector: Businesses or other for-profits.

Estimated Total Burden Hours: 418,362.

OMB Number: 1545-0619.

Type of Review: Revision of a currently approved collection.

Title: Credit for Increasing Research Activities.

Form: 6765.

Abstract: IRC section 38 allows a credit against income tax (determined under IRC section 41) for an increase in research activities in a trade or business. Form 6765 is used by businesses individuals engaged in a trade or business to figure and report the credit. The data is used to verify that the credit claimed is correct.

Respondents: Private Sector: Businesses or other for-profits.

Estimated Total Burden Hours: 285,281.

OMB Number: 1545-0748.

Type of Review: Extension without change of a currently approved collection.

Title: Employer Appointment of Agent.

Form: 2678.

Abstract: Title 26 U.S.C. 3504 authorizes an employer to designate a fiduciary, agent, etc., to perform the same acts as required of employers for purposes of employment taxes. Form 2678 is used by an employer to notify the Director, Internal Revenue Service Center, of the appointment of an agent to pay wages on behalf of the employer. In addition, the completed form is an authorization to withhold and pay taxes via Form 941, Employer's Quarterly Federal Tax Return, for the employees involved.

Respondents: Private Sector: Businesses or other for-profits, Not-for-profit institutions.

Estimated Total Burden Hours: 13,731,200.

OMB Number: 1545-0877.

Type of Review: Extension without change of a currently approved collection.

Title: Acquisition or Abandonment of Secured Property.

Form: 1099-A.

Abstract: Form 1099-A is used by persons who lend money in connection with a trade or business, and who acquire an interest in the property that is security for the loan or who have reason to know that the property has been abandoned, to report the acquisition or abandonment.

Respondents: Private Sector: Businesses or other for-profits.

Estimated Total Burden Hours: 61,817.

Bureau Clearance Officer: Yvette Lawrence, Internal Revenue Service, 1111 Constitution Avenue NW., Washington, DC 20224; (202) 927-4374

OMB Reviewer: Shagufta Ahmed, Office of Management and Budget, New Executive Office Building, Room 10235, Washington, DC 20503; (202) 395-7873.

Dawn D. Wolfgang,
Treasury PRA Clearance Officer.

[FR Doc. 2011-29099 Filed 11-9-11; 8:45 am]

BILLING CODE 4830-01-P